DEPARTMENT OF STATE

[Delegation of Authority 257-1]

Re-Delegation of Immunity From Judicial Seizure Authorities

By virtue of the authority vested in me as the Assistant Secretary of State for Educational and Cultural Affairs, including by Delegation of Authority No. 236-3 (August 28, 2000), and to the extent permitted by law, I hereby delegate to the Deputy Assistant Secretary for Policy, Educational and Cultural Affairs, the functions in 22 U.S.C. 2459, providing for immunity from judicial seizure for cultural objects imported into the United States for temporary exhibition.

Notwithstanding this re-delegation, the Secretary, the Deputy Secretaries, the Under Secretary for Public Diplomacy and Public Affairs, the Assistant Secretary of State for Educational and Cultural Affairs, the Principal Deputy Assistant Secretary for Educational and Cultural Affairs, and the Deputy Assistant Secretary for Professional and Cultural Exchanges may at any time exercise the functions delegated herein.

Any reference in this Delegation of Authority to any statute or delegation of authority shall be deemed to be a reference to such statute or delegation of authority as amended from time to time.

This delegation of authority shall be published in the Federal Register.

Dated: December 11, 2015.
Evan Ryan,
Assistant Secretary of State for Educational and Cultural Affairs, U.S. Department of State.

[FR Doc. 2015-32502 Filed 12-23-15; 8:45 am]

BILLING CODE 4710-05-P